COMMISSION ON CIVIL RIGHTS

Agenda and Notice of Public Meeting of the Connecticut Advisory Committee

Notice is hereby given, pursuant to the provisions of the rules and regulations of the U.S. Commission on Civil Rights, that a conference call of the Connecticut Advisory Committee to the Commission will convene at 9:30 a.m. and adjourn at 11:30 p.m. on Thursday, June 19, 2003. The purpose of the conference call is to plan for a community forum in Bridgeport, fall 2003.

This conference call is available to the public through the following call-in number: 1-800-659-8296, Chairperson Ki-Taek Chun. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and contact name.

To ensure that the Commission secures an appropriate number of lines for the public, persons are asked to register by contacting Ki-Taek Chun, Director of the Eastern Regional Office, (202) 376-7533 (TDD (202) 376-8116), by 4 p.m. on Wednesday, June 18, 2003.

The meeting will be conducted pursuant to the provisions of the rules and regulations of the Commission.

Dated at Washington, DC, May 30, 2003.
Ivy L. Davis,
Chief, Regional Programs Coordination Unit.

[FR Doc. 03-14248 Filed 6-5-03; 8:45 am]

BILLING CODE 6335-01-P